DEPARTMENT OF ENERGY

Federal Energy Regulatory Commission

Combined Notice of Filings #2

Take notice that the Commission received the following exempt wholesale generator filings:

Docket Numbers: EG19-64-000.

Applicants: Canal 3 Generating LLC.

Description: Notice of Self-Certification of Exempt Wholesale Generator Status of Canal 3 Generating LLC.

Filed Date: 3/5/19.

Accession Number: 20190305-5197.

Comments Due: 5 p.m. ET 3/26/19.

Take notice that the Commission received the following electric rate filings:

Docket Numbers: ER18-2030-001.

Applicants: Southwest Power Pool, Inc.

Description: Compliance filing: Request for Deferral of Effective Date—Revisions to RNU Rounding Process to be effective N/A.

Filed Date: 3/5/19.

Accession Number: 20190305-5198.

Comments Due: 5 p.m. ET 3/26/19.

Docket Numbers: ER19-836-001.

Applicants: El Paso Electric Company.

Description: Tariff Amendment: Service Agreement No. 315, EDF PTP to be effective 5/18/2019.

Filed Date: 3/5/19.

Accession Number: 20190305-5133.

Comments Due: 5 p.m. ET 3/26/19.

Docket Numbers: ER19-1188-000.

Applicants: RC Cape May Holdings, LLC.

Description: Tariff Cancellation: Notice of Cancellation of Reliability Must-Run Agreement to be effective 5/1/2019.

Filed Date: 3/5/19.

Accession Number: 20190305-5129.

Comments Due: 5 p.m. ET 3/26/19.

Docket Numbers: ER19-1189-000.

Applicants: RC Cape May Holdings, LLC.

Description: Tariff Cancellation: RC Cape May Notice of Cancellation MBR Tariff to be effective 5/1/2019.

Filed Date: 3/5/19.

Accession Number: 20190305-5132.

Comments Due: 5 p.m. ET 3/26/19.

Docket Numbers: ER19-1190-000.

Applicants: PJM Interconnection, L.L.C.

Description: § 205(d) Rate Filing: Amendment to 5 WMPAs; SA No. 3147, 3318, 3524, 4083, 3094 re: Marina to GRSP to be effective 10/11/2011.

Filed Date: 3/5/19.

Accession Number: 20190305-5153.

Comments Due: 5 p.m. ET 3/26/19.

Docket Numbers: ER19-1191-000.

Applicants: Alabama Power Company.

Description: § 205(d) Rate Filing: Brother Solar LGIA Filing to be effective 2/21/2019.

Filed Date: 3/5/19.

Accession Number: 20190305-5155.

Comments Due: 5 p.m. ET 3/26/19.

Docket Numbers: ER19-1193-000.

Applicants: Alabama Power Company.

Description: § 205(d) Rate Filing: Kruger Energy North Sumter Solar LGIA Filing to be effective 2/25/2019.

Filed Date: 3/5/19.

Accession Number: 20190305-5157.

Comments Due: 5 p.m. ET 3/26/19.

Docket Numbers: ER19-1194-000.

Applicants: Canal 3 Generating LLC.

Description: Baseline eTariff Filing: Baseline New to be effective 3/6/2019.

Filed Date: 3/5/19.

Accession Number: 20190305-5191.

Comments Due: 5 p.m. ET 3/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2019.
Kimberly D. Bose,
Secretary.

[FR Doc. 2019-04329 Filed 3-8-19; 8:45 am]

BILLING CODE 6717-01-P